DEPARTMENT OF HOUSING AND URBAN DEVELOPMENT

[Docket No. FR-7037-N-02]

60-Day Notice of Proposed Information Collection: Comment Request; Housing Discrimination Claim Form HUD-903.1, HUD-903.1A, HUD-903.1B, HUD-903.1C, HUD-903.1F, HUD-903.1CAM, HUD-903.1KOR, HUD-903.1RUS, HUD-903-1_Somali; OMB Control No.: 2529-0011

AGENCY: Office of the Assistant Secretary for Fair Housing and Equal Opportunity, HUD.

ACTION: Notice.

SUMMARY: The proposed reinstatement, with revised title and minor text revisions, of an expired, previously approved information collection for HUD Form Series HUD-903.1, HUD-903.1A, HUD-903.1B, HUD-903.1C, HUD-903.1F, HUD-903.1CAM, HUD-903.1KOR, HUD-903.1RUS, and HUD-903-1_Somali will be submitted to the Office of Management and Budget (OMB) for review, in accordance with the Paperwork Reduction Act of 1995. HUD is soliciting comments from all interested parties on the proposed reinstatement of this information collection.

DATES: Comment Due Date: August 24, 2021.

ADDRESSES: Interested persons are invited to submit comments regarding the proposed reinstatement of this information collection. Comments should refer to the proposal by name and/or OMB Control Number, and should be sent to Colette Pollard, Departmental Paperwork Reduction Act Officer, QMAC, U.S. Department of Housing and Urban Development, 451 7th Street SW, Room 4186, Washington, DC 20410-2000; telephone number (202) 402-3400 (this is not a toll-free number), or email at Colette.Pollard@hud.gov for a copy of the proposed forms or other available information. Hearing or speech impaired individuals may access this number via TTY by calling the toll-free Federal Relay Service at: 1-(800) 877-8339.

FOR FURTHER INFORMATION CONTACT: Erik A. Heins, Director, Enforcement Support Division, Office of Enforcement, U.S. Department of Housing and Urban Development, 451 7th Street SW, Room 5214, Washington, DC 20410-2000; telephone number (202) 402-5887 (this is not a toll-free number), or email at ERIK.A.HEINS@hud.gov. Hearing or speech impaired individuals may access this number via TTY by calling the toll-free Federal Relay Service at: 1-(800) 877-8339.

SUPPLEMENTARY INFORMATION: HUD is submitting this proposed reinstatement, with revised title and minor text revisions, of an expired, previously approved information collection to the OMB for review, as required by the Paperwork Reduction Act of 1995 [44 U.S.C. Chapter 35, as amended].

HUD has revised the previous title of the HUD Form Series HUD-903.1 information collection from “Housing Discrimination Information Form” to “Housing Discrimination Claim Form (“Form”).” This revised title emphasizes that submitting a Housing Discrimination Claim Form to HUD is not equivalent to filing a jurisdictional housing discrimination complaint with HUD. The proposed minor text revisions comply with the procedures described in HUD's Fair Housing Act regulation at 24 CFR part 103, subpart B, Subsections 103.10, 103.15, 103.20, 103.25, 103.30, 103.35, and 103.40. The revised Form also provides a complete list of mailing addresses, email addresses, and fax numbers for HUD's ten (10) Regional Fair Housing and Equal Opportunity (FHEO) Offices.

The proposed minor text revisions to HUD Form Series HUD-903.1 will not increase the information collection burden for aggrieved persons. Both the previous and revised Forms ask an aggrieved person to provide their full name; address; phone and/or email contact information; and alternative contact information. Both Forms also ask the aggrieved person to answer five (5) preliminary questions that may establish HUD's authority (jurisdiction) to file and investigate a Fair Housing Act complaint.

The proposed minor text revisions to HUD Form Series HUD-903.1 will not increase the total annual burden hours for aggrieved persons who submit the Form to HUD via the internet. Therefore, HUD does not believe that the time for completing the online version of the Form will exceed the current 45-minute time limit for internet submissions.

This Notice is soliciting comments from members of the public and affected agencies concerning the proposed reinstatement, with revised title and minor text revisions, of an expired, previously approved collection of information concerning alleged discriminatory housing practices under the Fair Housing Act [42 U.S.C. 3601 et seq.]. The Fair Housing Act prohibits discrimination in the sale, rental, occupancy, advertising, and insuring of residential dwellings; and in residential real estate-related transactions; and in the provision of brokerage services, based on race, color, religion, sex, handicap [disability], familial status, or national origin. The Fair Housing Act also makes it unlawful to coerce, intimidate, threaten, or interfere with any person who has (1) exercised their fair housing rights; or (2) aided or encouraged another person to exercise their fair housing rights.

Any person who claims to have been injured by a discriminatory housing practice, or any person who believes that they will be injured by a discriminatory housing practice that is about to occur, may file a complaint with HUD not later than one year after the alleged discriminatory housing practice occurred or terminated. HUD has designed Housing Discrimination Claim Form HUD-903.1 to promote consistency in the documents that, by statute, must be provided to persons against whom complaints are filed [“respondents”], and for the convenience of the general public. Section 103.25 of HUD's Fair Housing Act regulation describes the information that must be included in each complaint filed with HUD. For purposes of meeting the Act's one-year time limitation for filing complaints with HUD, complaints need not be initially submitted on the Form that HUD provides. Housing Discrimination Claim Form HUD-903.1 (English language), HUD-903.1A (Spanish language), HUD-903.1B (Chinese language), HUD-903.1C (Arabic language), HUD-903.1F (Vietnamese language), HUD-903.1CAM (Cambodian language), HUD-903.1KOR (Korean language), HUD-903.1RUS (Russian language), and HUD-903-1_(Somali language) may be submitted to HUD by mail, in person, by facsimile, by email, or via the internet to HUD's Office of Fair Housing and Equal Opportunity (FHEO). FHEO staff uses the information provided on the Form to verify HUD's authority to investigate the aggrieved person's allegations under the Fair Housing Act.

A. Overview of Information Collection

Proposed Revised Title of Information Collection: Housing Discrimination Claim Form.

OMB Control Number: 2529-0011.

Type of Request: Proposed reinstatement, with revised title and minor text revisions, of an expired, previously approved information collection.

Form Number: HUD-903.1.

Description of the need for the information and proposed use: HUD uses the Housing Discrimination Claim Form HUD-903.1 (Form) to collect pertinent information from persons wishing to file housing discrimination complaints with HUD under the Fair Housing Act. The Fair Housing Act makes it unlawful to discriminate in the sale, rental, occupancy, advertising, or insuring of residential dwellings; or to discriminate in residential real estate-related transactions; or in the provision of brokerage services, based on race, color, religion, sex, handicap [disability], familial status, or national origin. The Fair Housing Act also makes it unlawful to coerce, intimidate, threaten, or interfere with any person who has (1) exercised their fair housing rights; or (2) aided or encouraged another person to exercise their fair housing rights.

Any person who claims to have been injured by a discriminatory housing practice, or any person who believes that they will be injured by a discriminatory housing practice that is about to occur, may file a complaint with HUD not later than one year after the alleged discriminatory housing practice occurs or terminates. The Form promotes consistency in the collection of information necessary to contact persons who file housing discrimination complaints with HUD. It also aids in the collection of information necessary for initial assessments of HUD's authority to investigate alleged discriminatory housing practices under the Fair Housing Act. This information may subsequently be provided to persons against whom complaints are filed [“respondents”], as required under section 810(a)(1)(B)(ii) of the Fair Housing Act.

Agency form numbers, if applicable: Form HUD-903.1 (English), Form HUD-903.1A (Spanish), Form HUD-903.1B (Chinese), Form HUD-903.1C (Arabic), Form HUD-903.1F (Vietnamese), Form HUD-903.1CAM (Cambodian), Form HUD-903.1KOR (Korean), Form HUD-903.1RUS (Russian), and Form HUD-903-1_(Somali).

Members of affected public: Individuals or households; businesses or other for-profit, not-for-profit institutions; State, Local, or Tribal Governments.

Estimation of the total number of hours needed to prepare the information collection, including the number of respondents, frequency of response, and hours of responses: During FY 2020, HUD staff received approximately 21,846 information submissions from persons wishing to file housing discrimination complaints with HUD. Of this total, HUD received 1,298 complaint submissions by telephone. The remaining 20,548 complaint submissions were transmitted to HUD by mail, in-person, by email, and via the internet. HUD estimates that an aggrieved person requires approximately 45 minutes in which to complete this Form. The Form is completed once by each aggrieved person. Therefore, the total number of annual burden hours for this Form is 15,411 hours.

20,548 × 1 (frequency) × .45 minutes (.75 hours) = 15,411 hours.

Annualized cost burden to complainants: HUD does not provide postage-paid mailers for this information collection. Accordingly, aggrieved persons choosing to submit this Form to HUD by regular mail must pay the United States Postal Service's (USPS) prevailing First Class Postage rate. As of the date of this Notice, the annualized cost burden per person, based on a one-time submission of this Form to HUD via the USPS's First Class Postage rate, is Fifty-five Cents ($0.55) per person. During FY 2020, FHEO staff received approximately 1,533 submissions of potential complaint information by mail. Based on this number, HUD estimates that the total annualized cost burden for aggrieved persons who submit this Form to HUD by mail is $843.00. Aggrieved persons may also submit this Form to HUD in person, by facsimile, by email, or electronically via the internet.

Status of the proposed information collection: Proposed reinstatement, with revised title and minor text revisions, of an expired, previously approved collection of pertinent information from persons wishing to file Fair Housing Act complaints with HUD.

B. Solicitation of Public Comments

This Notice is soliciting comments from members of the public and affected parties concerning the collection of information described in Section A on the following:

(1) Whether the proposed information collection is necessary for the performance of the agency's functions;

(2) Whether the agency's estimate of burdens imposed by the information collection is accurate;

(3) Ways to enhance the quality, utility, and clarity of the information to be collected; and

(4) Ways to minimize the burdens of the information collection on aggrieved persons, including the use of appropriate automated collection techniques or other forms of information technology, e.g., permitting electronic submission of responses. HUD encourages interested parties to submit comments in response to these questions.

C. Authority

Section 3507 of the Paperwork Reduction Act of 1995, 44 U.S.C. Chapter 35, as amended.

Erik Heins,
Director, Enforcement Support Division, FHEO.

[FR Doc. 2021-13553 Filed 6-24-21; 8:45 am]

BILLING CODE 4210-67-P